ENVIRONMENTAL PROTECTION AGENCY

[FRL-9094-8]

National Environmental Justice Advisory Council; Notification of Public Meeting and Public Comment

AGENCY: Environmental Protection Agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come basis.

DATES: The NEJAC meeting will convene Wednesday, January 27, 2010 from 1 p.m. to 3:30 p.m., and reconvene Thursday, January 28, 2010 from 8:45 a.m. to 5 p.m., and Friday, January 29, 2010, from 8:45 a.m. to 2 p.m. All noted times are Central Time.

One public comment session relevant to the specific issues being considered by the NEJAC (see SUPPLEMENTARY INFORMATION) is scheduled for Wednesday, January 27, from 3:45 p.m. to 6:45 p.m. All noted times are Central Time. Members of the public who wish to participate in the public comment period are encouraged to pre-register by January 11, 2010.

ADDRESSES: The NEJAC meeting will be held at the New Orleans Marriott Hotel, 555 Canal Street, New Orleans, Louisiana 70130, telephone (504) 581-1000, FAX (504) 523-6755 or toll-free: (888) 364-1200.

FOR FURTHER INFORMATION CONTACT: Questions concerning the meeting should be directed to Mr. Aaron Bell, U.S. Environmental Protection Agency, at 1200 Pennsylvania Avenue, NW., (MC2201A), Washington, DC 20460; by telephone at (202) 564-1044, via e-mail at Bell.Aaron@epa.gov; or by FAX at (202) 501-0936. Additional information about the meeting is available on the following Web site: http://www.epa.gov/compliance/environmentaljustice/nejac/meetings.html.

Pre-registration by January 11, 2010, for all attendees is highly recommended. To register online, visit the Web site above. Requests for pre-registration forms should be sent to Ms. Estela Rosas, EPA Contractor, APEX Direct, Inc., at 877-773-0779 or meetings@AlwaysPursuingExcellence.com. Non-English speaking attendees wishing to arrange for a foreign language interpreter also may make appropriate arrangements using these numbers.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

The meeting shall be used to receive comments, discuss, and provide recommendations regarding these primary areas: (1) Environmental Justice and Rulemaking; (2) Climate Adaptation; (3) School Air Toxics Monitoring, (4) EPA's Response to the NEJAC Goods Movement Report; (5) EPA's Environmental Justice Enforcement Priorities; (6) Nationally Consistent Environmental Justice Screening Approaches; and (7) EPA's National Enforcement Priorities.

A. Public Comment: Individuals or groups making oral presentations during the public comment period will be limited to a total time of five minutes. Only one representative of a community, organization, or group will be allowed to speak. Any number of written comments can be submitted for the record. The suggested format for individuals providing public comments is as follows: Name of Speaker, Name of Organization/Community, Address, Telephone, E-mail, Description of Concern and its Relationship to a Specific Policy Issue(s), and Recommendations or Desired Outcome. Written comments received by January 11, 2010 will be included in the materials distributed to the members of the NEJAC. Written comments received after that date will be provided to the NEJAC as logistics allow. All information should be sent to the address, e-mail, or fax number listed in the CONTACT section above.

B. Information about Services for Individuals with Disabilities: For information about access or services for individuals with disabilities, please contact Ms. Estela Rosas, EPA Contractor, APEX Direct, Inc., at 877-773-0779 or meetings@AlwaysPursuingExcellence.com. To request special accommodations for a disability, please contact Ms. Rosas, at least 10 days prior to the meeting, to give EPA sufficient time to process your request. All requests should be sent to the address, e-mail, or FAX number listed in the FOR FURTHER INFORMATION CONTACT section above.

Dated: December 16, 2009.
Victoria Robinson,
Designated Federal Officer, National Environmental Justice Advisory Council.

[FR Doc. E9-30400 Filed 12-21-09; 8:45 am]

BILLING CODE 6560-50-P